DEPARTMENT OF THE INTERIOR

Minerals Management Service

Agency Information Collection Activities: Proposed Collection; Comment Request

AGENCY: Minerals Management Service (MMS), Interior.

ACTION: Notice of extension of an information collection (1010-0041).

SUMMARY: To comply with the Paperwork Reduction Act of 1995 (PRA), we are inviting comments on a collection of information that we will submit to the Office of Management and Budget (OMB) for review and approval. The information collection request (ICR) concerns the paperwork requirements in the regulations under 30 CFR 250, subpart K “Oil and Gas Production Rates.”

DATES: Submit written comments by February 4, 2003.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-0041” in your e-mail subject line and mark your message for return receipt. Include your name and return address in your message.

FOR FURTHER INFORMATION CONTACT: Arlene Bajusz, Rules Processing Team, (703) 787-1600. You may also contact Arlene Bajusz to obtain a copy, at no cost, of the regulations and form MMS-140 that require the subject collection of information.

SUPPLEMENTARY INFORMATION: Title: 30 CFR Part 250, Subpart K, Oil and Gas Production Rates.

OMB Control Number: 1010-0041.

Form Number: Form MMS-140.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1334(g)(2) states “* * * the lessee shall produce such oil or gas, or both, at rates * * * to assure the maximum rate of production which may be sustained without loss of ultimate recovery of oil or gas, or both, under sound engineering and economic principles, and which is safe for the duration of the activity covered by the approved plan.” This authority and responsibility are among those delegated to the Minerals Management Service (MMS). The regulations at 30 CFR part 250, subpart K, concern oil and gas production rates and implement these statutory requirements. The information collection requirements in subpart K and form MMS-140 are the subject of this notice.

We use the information collected to determine if produced gas can be economically put to beneficial use, to analyze the risks of transporting the liquid hydrocarbons against the value of the resource, and to account for volumes of flared gas and burned liquid hydrocarbons. The MMS uses the information in its efforts to conserve natural resources, prevent waste, and protect correlative rights including the Government's royalty interest. Specifically, MMS uses the information to review records of burning liquid hydrocarbons and venting and flaring actions to ensure that they are not excessive; to determine maximum production and maximum efficient rates; to compare the volume of hydrogen sulfide (H2S) flared and the sulphur dioxide (SO2) emitted to the specified amounts in approved contingency plans; to monitor monthly atmospheric emissions of SO2 for air quality; to review applications for downhole commingling to ensure that action does not result in undervalued royalties; and to ensure that operations are effective and result in optimum ultimate recovery.

We will protect information from respondents considered proprietary under the Freedom of Information Act (5 U.S.C. 552) and its implementing regulations (43 CFR part 2) and under regulations at 30 CFR 250.196, “Data and information to be made available to the public.” No items of a sensitive nature are collected. Responses are mandatory.

Frequency: On occasion or monthly.

Estimated Number and Description of Respondents: Approximately 130 Federal OCS oil and gas lessees.

Estimated Reporting and Recordkeeping “Hour” Burden: The currently approved annual reporting burden for this collection is 14,189 hours. The following chart details the individual components and respective hour burden estimates of this ICR. In calculating the burdens, we assumed that respondents perform certain requirements in the normal course of their activities. We consider these to be usual and customary and took that into account in estimating the burden.

Citation 30 CFR 250 subpart K | Reporting & recordkeeping requirement | hour burden
1101(b) | Request approval to produce within 500 feet of a lease line | 5
1101(c) | Request approval to produce gas cap of a sensitive reservoir | 12
1102 | Submit forms MMS-126, MMS-127, and MMS-128. (Burden covered under 1010-0039, 1010-0018, and 1010-0017.) |
1102(a)(5) | Submit alternative plan for overproduction status. (We are not currently collecting this information.) |
1102(b)(6) | Request extension of time to submit results of semiannual well test | ½
1103(a) | Request approval of test periods of less than 4 hours and pretest stabilization periods of less than 6 hours | ½
1103(c) | Provide advance notice of time and date of well tests | ½
1104(c) | Submit results of all static bottomhole pressure surveys obtained by lessee. Information is submitted on form MMS-140 in the Gulf of Mexico Region | 1
1105(a), (b) | Request special approval to flare or vent oil-well gas | 6
1105(c) | Request approval to burn produced liquid hydrocarbons | 1
1105(f) | Submit monthly reports of flared or vented gas containing H2S. | 2
1105(f) | H2S Contingency, Exploration, or Development and Production Plans. (Burden covered under 1010-0053 and 1010-0049.)
1106 | Submit application to commingle hydrocarbons produced from multiple reservoirs and inform other lessees having an interest | 6
1107(b) | Submit proposed plan for enhanced recovery operations | 12
1107(c) | Submit periodic reports of volumes of oil, gas, or other substances injected, produced, or reproduced | 2
1100-1107 | General departure and alternative compliance requests not specifically covered elsewhere in subpart K | 2
Reporting Subtotal
1105(d), (e) | Maintain records for 2 years detailing gas flaring or venting | 13
1105(d), (e) | Maintain records for 2 years detailing liquid hydrocarbon burning | ½

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before an ICR is submitted to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: November 27, 2002.
E.P. Danenberger,
Chief, Engineering and Operations Division.

[FR Doc. 02-30954 Filed 12-5-02; 8:45 am]

BILLING CODE 4310-MR-P